DEPARTMENT OF THE TREASURY

Office of the Comptroller of the Currency

Agency Information Collection Requirements; Information Collection Renewal; Submission for OMB Review; Climate Risk Range of Practice Questionnaire

AGENCY: Office of the Comptroller of the Currency (OCC), Treasury.

ACTION: Notice and request for comment.

SUMMARY: The OCC, as part of its continuing effort to reduce paperwork and respondent burden, invites the general public and other Federal agencies to take this opportunity to comment on the renewal of an information collection as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collection titled, “Climate Risk Range of Practice Questionnaire.” The OCC also is giving notice that it has sent the collection to OMB for review.

DATES: You should submit written comments by June 1, 2022.

ADDRESSES: Commenters are encouraged to submit comments by email, if possible. You may submit comments by any of the following methods:

• Email: prainfo@occ.treas.gov.

• Mail: Chief Counsel's Office, Attention: Comment Processing, 1557-0354, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “1557-0354” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. Find this particular information collection by selecting “Currently under 30-day Review—Open for Public Comments” or by using the search function.

On January 18, 2022, the OCC published a 60-day notice for this information collection, 87 FR 2667. You may review comments and other related materials that pertain to this information collection following the close of the 30-day comment period for this notice by the method set forth in the next bullet.

• Viewing Comments Electronically: Go to www.reginfo.gov. Hover over the “Information Collection Review” tab and click on “Information Collection Review” drop-down menu. From the “Currently under Review” drop-down menu, select “Department of Treasury” and then click “submit.” This information collection can be located by searching by OMB control number “1557-0354” or “Climate Risk Range of Practice Questionnaire.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 649-5490, Chief Counsel's Office, Office of the Comptroller of the Currency, 400 7th Street SW, Suite 3E-218, Washington, DC 20219.

SUPPLEMENTARY INFORMATION: Under the PRA (44 U.S.C. 3501-3520), Federal agencies must obtain approval from the Office of Management and Budget (OMB) for each collection of information that they conduct or sponsor. “Collection of information” is defined in 44 U.S.C. 3502(3) and 5 CFR 1320.3(c) to include agency requests or requirements that members of the public submit reports, keep records, or provide information to a third party. Section 3506(c)(2)(A) of title 44 requires Federal agencies to provide a 60-day notice in the Federal Register concerning each proposed collection of information, including each proposed extension of an existing collection of information, before submitting the collection to OMB for approval. To comply with this requirement, the OCC is publishing notice of the renewal of the emergency approval granted to the information collection set forth in this document.

Title: Climate Risk Range of Practice Questionnaire.

OMB Control No.: 1557-0354.

Abstract: The OCC is conducting a climate risk range of practice among large banks with the purpose of developing an understanding of climate risk management practices, specifically as they pertain to climate-related financial risk. Climate risks can have a material impact on the financial system by damaging property, impeding business activity, shifting the values of assets, and affecting incomes. Banks are exposed to both physical risks and transition risks presented by climate change, which may impact the safety and soundness of supervised institutions. The OCC is collecting the information through the range of practice to understand the financial risks and ensure the establishment of sound risk management frameworks to measure, monitor, and control risks presented by climate change. The agency understands that some banks are working to incorporate climate-related financial risks into their existing risk management frameworks and business strategies. The OCC also recognizes that banks' exposure to climate-related financial risks and their climate risk management practices may vary substantially based on institutions' size, complexity of operations, geographic footprint, business model, and risk profile. The range of practice will not result in an adequacy assessment as to the banks' current climate risk management program. The range of practice will:

• Inform the need for clarification or development of necessary supervisory expectations;

• Start to establish baseline supervisory knowledge;

• Help identify challenges and gaps in risk management frameworks; and

• Inform the agency on plans to evolve current practices.

Type of Review: Extension, without change, of a currently approved collection.

Affected Public: Businesses or other for-profit; individuals.

Estimated Number of Respondents: 20.

Estimated Burden per Respondent: 170 hours.

Total Burden: 3,400 hours.

On January 18, 2022, the OCC published a 60-day notice for this information collection, 87 FR 2667. The OCC received one comment, which was not directly relevant. Comments continue to be solicited on:

(a) Whether the collection of information is necessary for the proper performance of the functions of the agency, including whether the information has practical utility;

(b) The accuracy of the OCC's estimates of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Theodore J. Dowd,
Deputy Chief Counsel, Office of the Comptroller of the Currency.

[FR Doc. 2022-09336 Filed 4-29-22; 8:45 am]

BILLING CODE 4810-33-P